DEPARTMENT OF AGRICULTURE

Forest Service

Commercial Pack Stock Use Authorizations for the Ansel Adams and John Muir Wildernesses; Inyo and Sierra National Forests; Inyo, Fresno, Madera and Mono Counties, CA

AGENCY: Forest Service, USDA.

ACTION: Notice of intent to prepare an environmental impact statement.

SUMMARY: The USDA Forest Service will prepare an environmental impact statement for a proposal to authorize outfitting and guiding activities by up to 22 commercial pack stock operations that serve the John Muir and Ansel Adams Wilderness areas. The proposed action establishes limits on the numbers of stock animals used in conjunction with commercial operators, establishes limits on the commercial group size at certain locations, determines trail suitability for commercial operations, and designates campsites for use by commercial stock users. The proposed action also establishes primary operating areas for commercial pack stock operations, establishes destination quotas, and determines grazing suitability.

DATES: Comments concerning the scope of the analysis should be received no later than July 26, 2004. A draft environmental impact statement is expected to be filed with the Environmental Protection Agency (EPA) and be available for public review in January 2005. At that time the EPA will publish a Notice of Availability in the Federal Register. The comment period on the draft EIS will be 45 days from the date the EPA publishes the Notice of Availability. The final EIS is scheduled to be completed in May 2005.

ADDRESSES: Send written comments to: Pack Stock Use Proposed Action, Inyo National Forest, 351 Pacu Lane, Suite 200, Bishop, CA 93514. Electronic comments may be sent to comments-pacificsouthwest-inyo@fs.fed.us. The subject line should read “Pack Stock Use Proposed Action.”

FOR FURTHER INFORMATION CONTACT: Mary Beth Hennessy, Wilderness Specialist, Inyo National Forest, 351 Pacu Lane, Suite 200, Bishop, CA 93514, (760) 873-2448.

SUPPLEMENTARY INFORMATION:

Purpose and Need for Action

On April 10, 2000, a lawsuit was filed against the Sierra and Inyo National Forests alleging violations of the National Forest Management Act, National Environmental Policy Act (NEPA), and the Wilderness Act. Specifically, it was claimed that commercial pack stations were issued special use permits to operate in the Ansel Adams and John Muir Wilderness areas without assessing, in advance through the NEPA process, the environmental impacts of these activities. On June 4, 2001, the judge overseeing the lawsuit issued a ruling on the litigation and found in favor of the plaintiffs, although only on the NEPA claim. The Court determined that the Forest Service failed to adequately document environmental impacts as required by the NEPA. On November 1, 2001, a Court Order was issued that required the Forest Service to complete the NEPA process for these permits no later than 2006. The Court specifically required that a cumulative impacts analysis be included in the NEPA process and that this analysis consider limits on numbers of stock animals used in conjunction with commercial operators, limits on the group size (people and number of stock both on and off trail), trail suitability for various use types, and designation of campsites for use by commercial pack stations.

The purpose of this proposed action is to: (1) Identify where, at what level and what type of use each commercial pack stock operator will be authorized to provide; (2) ensure that the commercial pack stock operations comply with applicable law, the Land and Resource Management Plans for the Inyo and Sierra National Forests, and with Forest Service policy; (3) provide for resource protection, including protection of wilderness character, while meeting the identified need for commercial pack stock services by the public; and (4) comply with the Court Order.

The Forest Service needs to make a decision on the specific terms and conditions that will be incorporated into the authorizations for commercial pack stock operations in these two wilderness areas. Most of the special use permits issued to existing commercial pack stock operations have expired or are due to expire in the next few years. Operations continue to be authorized pursuant to the Court Order, with specified conditions and restrictions, until a new NEPA analysis is completed and new special use permits are issued.

Proposed Action

To meet the purpose and need, the Forest Service proposes to authorize use and occupancy for outfitting and guiding activities for up to 22 commercial pack stock operators that provide these services in the Ansel Adams and John Muir Wildernesses. This proposed action will impose terms, conditions, and appropriate use levels for these activities to be incorporated into the special use permit. Specifically, the proposed action includes the following: (1) Designation of stock camps for commercial operators; (2) approval or disapproval of use of non-system trails by commercial stock operators; (3) determination of grazing suitability and allocations of stock nights for specific grazing areas; (4) determination of appropriate party size by location; (5) approval, maintenance, or the elimination of pack stock holding facilities (e.g., drift fences); (6) identification of certain system trails as “not recommended for stock” which will preclude their use by commercial pack stock operators; (7) determination of appropriate camp fire areas; and (8) protection of heritage resources and traditional Native American cultural resources. The proposed action includes actions that will be common to all analysis units in the John Muir and Ansel Adams Wildernesses and actions that are site-specific to areas within the analysis units.

Possible Alternatives

In addition to the Proposed Action, a No Action alternative, as required by the NEPA, will be analyzed. The No Action alternative to be analyzed would allow for the expiration of current commercial pack stock authorizations for the Ansel Adams and John Muir Wilderness areas.

Responsible Official

The responsible officials are Jeffrey E. Bailey, Forest Supervisor, Inyo National Forest, 351 Pacu Lane, Suite 200, Bishop, CA 93514 and Edward C. Cole, Forest Supervisor, Sierra National Forest, 1600 Tollhouse Road, Clovis, CA 93611.

Nature of Decision To Be Made

The decision to be made is whether to authorize outfitting and guiding use and activities by commercial pack stock operations in the John Muir and Ansel Adams Wilderness areas as proposed or as modified in response to the analysis of identified issues and alternatives. This decision is intended to meet the court ordered cumulative effects analysis for these two wilderness areas. This decision may require an amendment to the two forest land and resource management plans.

Scoping Process

The Forest Service is seeking information, comments, and assistance from Federal, State, and local agencies, tribes, individuals and other organizations that may be interested in or affected by the proposed action. Comments submitted during the scoping process should be in writing. They should be specific to the action being proposed and should describe as clearly and completely as possible any issues the commenter has with the proposal. This input will be used in preparation of the draft EIS.

To facilitate public participation, additional scoping opportunities will include a public scoping letter, public meetings (dates and locations to be determined), newsletters, and information posted on the Inyo and Sierra National Forests' Web sites.

Comment Requested

This notice of intent initiates the scoping process which guides the development of the environmental impact statement. The Forest Service would like to know of any issues, concerns and suggestions you may have about this proposal. The complete proposed action is highly detailed and site specific. Copies of the complete document may be obtained upon request by contacting MaryBeth Hennessy (see FOR FURTHER INFORMATION, above).

Early Notice of Importance of Public Participation in Subsequent Environmental Review: The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, section 21)
Dated: June 7, 2004.
Edward C. Cole,
Forest Supervisor, Sierra National Forest.
Dated: June 7, 2004.
Jeffrey E. Bailey,
Forest Supervisor, Inyo National Forest.

[FR Doc. 04-13394 Filed 6-14-04; 8:45 am]

BILLING CODE 3410-11-P